DEPARTMENT OF THE TREASURY

Fiscal Service

Surety Companies Acceptable On Federal Bonds—Change In Business Address: American Economy Insurance Company; American Fire and Casualty Company; American States Insurance Company; Employers Insurance Company of Wausau; Liberty Mutual Fire Insurance Company; Ohio Casualty Insurance Company; Peerless Insurance Company; West American Insurance Company

AGENCY: Financial Management Service, Fiscal Service, Department of the Treasury.

ACTION: Notice.

SUMMARY: This is Supplement No. 15 to the Treasury Department Circular 570, 2009 Revision, published July 1, 2009, at 74 FR 31536.

FOR FURTHER INFORMATION CONTACT: Surety Bond Branch at (202) 874-6850.

SUPPLEMENTARY INFORMATION: Notice is hereby given by the Treasury that the above-named companies formally changed their “BUSINESS ADDRESS” as follows:

American Economy Insurance Company (NAIC #19690). BUSINESS ADDRESS: 500 North Meridian Street, Indianapolis, IN 46204.

American Fire and Casualty Company (NAIC #24066). BUSINESS ADDRESS: 9450 Seward Road, Fairfield, OH 45014.

American States Insurance Company (NAIC #19704). BUSINESS ADDRESS: 500 North Meridian Street, Indianapolis, IN 46204.

Employers Insurance Company of Wausau (NAIC #21458) BUSINESS ADDRESS: 2000 Westwood Drive, Wausau, WI 54401.

Liberty Mutual Fire Insurance Company (NAIC #23035). BUSINESS ADDRESS: 2000 Westwood Drive, Wausau, WI 54401.

Ohio Casualty Insurance Company (The) (NAIC #24074). BUSINESS ADDRESS: 9450 Seward Road, Fairfield, OH 45014.

Peerless Insurance Company (NAIC #24198). BUSINESS ADDRESS: 62 Maple Avenue, Keene, NH 03431.

West American Insurance Company (NAIC #44393). BUSINESS ADDRESS: 7999 Knue Road, Suite 450, Indianapolis, IN 46250-1901.

Federal bond-approving officers should annotate their reference copies of the Treasury Circular 570 (“Circular”), 2009 Revision, to reflect these changes.

The Circular may be viewed and downloaded through the Internet at http://www.fms.treas.gov/c570.

Questions concerning this Notice may be directed to the U.S. Department of the Treasury, Financial Management Service, Financial Accounting and Services Division, Surety Bond Branch, 3700 East-West Highway, Room 6F01, Hyattsville, MD 20782.

Dated: June 10, 2010.
William J. Erie,
Acting Director, Financial Accounting and Services Division.

[FR Doc. 2010-15065 Filed 6-23-10; 8:45 am]

BILLING CODE 4810-35-M